FEDERAL ELECTION COMMISSION

Sunshine Act Meetings

PREVIOUSLY SCHEDULED DATE AND TIME: Thursday, March 9, 2006, Meeting open to the public.

The following item was withdrawn from the agenda: Explanation and justification for the final rules on municipal elections (11 CFR 100.24(a)).

The following item was added to the agenda: Notice of availability—petition for rulemaking on an exception for certain “grassroots lobbying” communications from the definition of “electioneering communication”

* * * * *

DATE AND TIME: Thursday, March 16, 2006 at 10 a.m.

PLACE: 999 E Street, NW., Washington, DC (Ninth Floor)

STATUS: This meeting will be open to the public.

ITEMS TO BE DISCUSSED:

Correction and Approval of Minutes.

Final Rules and Explanation and Justification for Internet Communications.

Routine Administrative Matters.

* * * * *

DATE AND TIME: Tuesday, March 21, 2006 at 10 a.m.

PLACE: 999 E St, NW., Washington, DC.

STATUS: This meeting will be closed to the public.

ITEMS TO BE DISCUSSED:

Compliance matters pursuant to 2 U.S.C. 437g.

Audits conducted pursuant to 2 U.S.C. 437g, 438(b), and Title 26, U.S.C.

Matters concerning participation in civil actions or proceedings or arbitration.

Internal personnel rules and procedures or matters affecting a particular employee.

PERSON TO CONTACT FOR INFORMATION: Mr. Robert Biersack, Press Officer, Telephone: (202) 694-1220.

Mary W. Dove,
Secretary of the Commission.

[FR Doc. 06-2401 Filed 3-8-06; 3:16 pm]

BILLING CODE 6715-01-M